DEPARTMENT OF AGRICULTURE

Forest Service

Eligibility Criteria for Tribal and Alaska Native Biomass Demonstration Projects Under the Indian Tribal Energy Development and Self-Determination Act

AGENCY: Forest Service, USDA.

ACTION: Notice of availability of Eligibility Criteria for Biomass Demonstration Projects.

SUMMARY: The Indian Tribal Energy Development and Self-Determination Act Amendments of 2017 amends the Tribal Forest Protection Act of 2004 to direct the Secretary of Agriculture (USDA), to enter into contracts or agreements with Indian tribes, and, in Alaska, tribal organizations to carry out demonstration projects to promote biomass energy production on Indian forest land and in nearby communities by providing reliable supplies of woody biomass from federal lands.

The Act contains Eligibility Criteria required to be addressed by an Indian tribe or tribal organization in their application to the Secretary, in order to enter into Biomass Demonstration Projects. The Eligibility Criteria are required to be made publically available not later than 120 days after the date of the Act's enactment. The Act also contains Selection Criteria, which will be used, without modification, by the Secretary to evaluate applications submitted. The Act's Eligibility and Selection Criteria will be used, without modification, to select biomass demonstration projects on lands under the jurisdiction of the Secretary of Agriculture.

DATES: This Notice is applicable upon the date of publication in the Federal Register.

ADDRESSES: Documents may be viewed on the World-Wide internet at https://www.fs.fed.us/spf/tribalrelations/authorities.shtml.

FOR FURTHER INFORMATION CONTACT: Gary Church, Assistant Director, Forest Products, 202-205-1732, during normal business hours, or send an email to wospecialproducts@fs.fed.us. Additional information about this notice may be obtained on the World-Wide internet at https://www.fs.fed.us/spf/tribalrelations/authorities.shtml. Individuals who use telecommunication devices for the deaf (TDD) may call the Federal Information Relay Service (FIRS) at 1-800-877-8339 between 8:00 a.m. and 8:00 p.m., Eastern Standard Time, Monday through Friday.

SUPPLEMENTARY INFORMATION:

Background

Section 202 of Public Law 115-325, the Indian Tribal Energy Development and Self-Determination Act Amendments of 2017 amends the Tribal Forest Protection Act of 2004 (25 U.S.C. 3115a et seq.) for the purpose of establishing Tribal and Alaska Native biomass demonstration projects for federally recognized Indian tribes and Alaska Native corporations to promote biomass energy production, on Bureau of Land Management and Forest Service lands.

For Tribal Biomass Demonstration Projects, the Act requires, for each of fiscal years 2017 through 2021, the Secretary to enter into stewardship contracts or similar agreements (excluding direct service contracts) with Indian tribes to carry out at least four new demonstration projects to promote biomass energy production (including biofuel, heat, and electricity generation) on Indian forest land, and in nearby communities, by providing reliable supplies of woody biomass from Federal land.

For Alaska Native Biomass Demonstration Projects, the Act requires, for each of fiscal years 2017 through 2021, the Secretary to enter into an agreement or contract with an Indian tribe or a tribal organization to carry out at least one new demonstration project to promote biomass energy production (including biofuel, heat, and electricity generation) by providing reliable supplies of woody biomass from Federal land. The terms Indian tribe and tribal organization have the same meanings as defined in the Indian Self-Determination and Education Assistance Act (section 4, 25 U.S.C. 5304).

Eligibility Criteria

The Act's Eligibility Criteria, without modification, will be used to select biomass demonstration projects on Forest Service lands under the jurisdiction of the Secretary of Agriculture. The Act's Tribal Biomass Demonstration Project Eligibility Criteria require the Indian tribe submit, to the Secretary of Agriculture, an application: (1) Containing such information as the Secretary may require; and (2) that includes a description of (A) the Indian forest land or rangeland under the jurisdiction of the Indian tribe; and (B) the demonstration project proposed to be carried out by the Indian tribe.

The Act's Alaska Native Biomass Demonstration Project Eligibility Criteria require the Indian tribe or tribal organization submit, to the Secretary of Agriculture, an application: (1) Containing such information as the Secretary may require; and (2) that includes a description of the demonstration project proposed to be carried out by the Indian tribe or tribal organization.

Selection Criteria

The Act's Selection Criteria, without modification, will be used to evaluate applications submitted for biomass demonstration projects on Forest Service lands under the jurisdiction of the Secretary of Agriculture.

In evaluating the applications submitted under the Act's Tribal Biomass Demonstration Project Eligibility Criteria, the Secretary of Agriculture is required to: (1) To take into consideration (A) the factors set forth in paragraphs (1) and (2) of section 2(e) of the Tribal Forest Protection Act of 2004; and (B) whether a proposed project would—

(i) Increase the availability or reliability of local or regional energy;

(ii) Enhance the economic development of the Indian tribe;

(iii) Result in or improve the connection of electric power transmission facilities serving the Indian tribe with other electric transmission facilities;

(iv) Improve the forest health or watersheds of Federal land or Indian forest land or rangeland;

(v) Demonstrate new investments in infrastructure; or

(vi) Otherwise promote the use of woody biomass; and

(2) exclude from consideration any merchantable logs that have been identified by the Secretary for commercial sale.

In evaluating the applications submitted under the Alaska Native Biomass Demonstration Project Eligibility Criteria, the Secretary of Agriculture is required to

(A) take into consideration whether a proposed project would—

(i) Increase the availability or reliability of local or regional energy;

(ii) Enhance the economic development of the Indian tribe;

(iii) Result in or improve the connection of electric power transmission facilities serving the Indian tribe with other electric transmission facilities;

(iv) Improve the forest health or watersheds of Federal land or non-Federal land;

(v) Demonstrate new investments in infrastructure; or

(vi) Otherwise promote the use of woody biomass; and

(B) exclude from consideration any merchantable logs that have been identified by the Secretary for commercial sale.

Dated: March 8, 2019.
Allen Rowley,
Acting Associate Deputy Chief, National Forest System.

[FR Doc. 2019-05502 Filed 3-26-19; 8:45 am]

BILLING CODE 3411-15-P